COMMITTEE FOR THE IMPLEMENTATION OF TEXTILE AGREEMENTS

Withdrawal of Short Supply Petition under the North American Free Trade Agreement (NAFTA)

December 6, 2001.

AGENCY: Committee for the Implementation of Textile Agreements (CITA).

ACTION: Withdrawal of petition concerning a modification of the NAFTA rules of origin for gimped yarn made from certain filament yarn of nylon.

SUMMARY: On September 5, 2001 the Chairman of CITA received a petition from Unifi, Inc. (Unifi) alleging that certain untextured (flat) yarns of nylon classified under subheading 5402.41.90 of the Harmonized Tariff Schedule of the United States (HTSUS) cannot be supplied by the domestic industry in commercial quantities in a timely manner and requested that the President proclaim a modification of the NAFTA rules of origin. (see 66 FR 51024, published on October 5, 2001). Unifi requested that the NAFTA rules of origin for gimped yarns classified under subheading 5606.00 of the HTSUS be modified to allow the use of non-North American yarns. CITA solicited public comments regarding the request.

FOR FURTHER INFORMATION CONTACT: Martin J. Walsh, International Trade Specialist, Office of Textiles and Apparel, U.S. Department of Commerce, (202) 482-3400.

SUPPLEMENTARY INFORMATION:

Authority: Section 204 of the Agricultural Act of 1956, as amended (7 USC 1854); Section 202(q) of the North American Free Trade Agreement Implementation Act (19 USC 3332(q); Executive Order 11651 of March 3, 1972, as amended.

On December 4, the Chairman of CITA received a letter from Unifi requesting that its petition be withdrawn because a U.S. company affirmed its intention to restart production of these yarns domestically. As a result of this request, CITA will not consider this short supply petition and is withdrawing its request for public comments on the petition.

D. Michael Hutchinson,
Acting Chairman, Committee for the Implementation of Textile Agreements.

[FR Doc.01-30665 Filed 12-11-01; 8:45 am]

BILLING CODE 3510-DR-S